FEDERAL COMMUNICATIONS COMMISSION

Federal Advisory Committee Act; Emergency Response Interoperability Center Public Safety Advisory Committee

AGENCY: Federal Communications Commission.

ACTION: Notice of intent to establish.

SUMMARY: In accordance with the Federal Advisory Committee Act, the purpose of this notice is to announce that a Federal Advisory Committee, known as the “Emergency Response Interoperability Center Public Safety Advisory Committee” (hereinafter the “Committee”), is being established.

ADDRESSES: Federal Communications Commission, Public Safety and Homeland Security Bureau, Attn: Gene Fullano, 445 12th Street, SW., Room 7-C738, Washington, DC 20554.

FOR FURTHER INFORMATION CONTACT: Gene Fullano, Federal Communications Commission, Public Safety and Homeland Security Bureau, 445 12th Street, SW., Room 7-C738, Washington, DC 20554. Telephone: (202) 418-0492, e-mail: genaro.fullano@fcc.gov.

SUPPLEMENTARY INFORMATION: The Chairman of the Federal Communications Commission has determined that the establishment of the Committee is necessary and in the public interest in connection with the performance of duties imposed on the Federal Communications Commission (“FCC” or “Commission”) by law. The Committee Management Secretariat, General Services Administration concurs with the establishment of the Committee. The purpose of the Committee is to make recommendations that will assist the Commission's Emergency Response Interoperability Center (ERIC), an entity established within the Public Safety and Homeland Security Bureau, in the development of a technical framework and requirements for interoperability in order to ensure that the public safety wireless broadband network is interoperable on a nationwide basis. In particular, the Committee will provide recommendations to the Commission that would assist ERIC as it implements the following policy objectives: (1) The adoption of technical and operational requirements and procedures to ensure a nationwide level of interoperability; (2) the adoption and implementation of requirements and procedures to address operability, roaming, priority access, gateway functions and interfaces, the interconnectivity of public safety broadband networks, and other matters related to the functioning of the nationwide public safety broadband network; (3) the adoption of authentication and encryption requirements for common public safety broadband applications and network use; (4) the coordination of ERIC's policies with other entities, including other Federal agencies; and (5) such other policies for which ERIC may have responsibilities from time to time.

Marlene H. Dortch,
Secretary, Federal Communications Commission.

[FR Doc. 2010-18112 Filed 7-22-10; 8:45 am]

BILLING CODE 6712-01-P